DEPARTMENT OF ENERGY

Federal Energy Regulatory Commission

[Docket No. EL08-47-006]

PJM Interconnection, L.L.C.; Notice of Filing

July 7, 2010.

Take notice that on July 1, 2010, PJM Interconnection, L.L.C. (PJM) filed revised sheets to Schedule 1 of the Amended and Restated Operating Agreement of PJM Interconnection, L.L.C. (Operating Agreement) and the parallel provisions of Attachment K—Appendix of the PJM Open Access Transmission Tariff, and also revisions to Schedule 2 of PJM's Operating Agreement, pursuant to the Federal Energy Regulatory Commission's February 19, 2009 Initial Order on Market Power Mitigation Provisions and Establishing Procedures, PJM Interconnection, L.L.C., 126 FERC ¶ 61,145 (2009) (February 19th Order), May 28, 2009 Order On Clarification, PJM Interconnection, L.L.C., 127 FERC ¶ 61,188 (2009) (May 28th Order), and March 23, 2010 Order on Compliance Filing, PJM Interconnection, L.L.C., 130 FERC ¶ 61,230 (2010) (March 30th Order).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on July 22, 2010

Kimberly D. Bose,
Secretary.

[FR Doc. 2010-17103 Filed 7-13-10; 8:45 am]

BILLING CODE 6717-01-P